DEPARTMENT OF LABOR

Employment and Training Administration

[TA-W-40,850]

Newbold Corporation, Rocky Mount, VA; Notice of Termination of Certification

This notice terminates the Determination Regarding Eligibility to Apply For Worker Adjustment Assistance issued by the Department on May 21, 2002, applicable to workers of NewBold Corporation, Rocky Mount, Virginia, engaged in employment related to the production of retail imprinter machines. The notice was published in the Federal Register on June 11, 2002 (67 FR 40003-40005).

At the request of the State agency, the Department reviewed the worker certification. Findings show that on January 9, 2002, all workers of NewBold Corporation, Rocky Mount, Virginia, were certified eligible to apply for Worker Adjustment Assistance, TA-W-39,448. All workers separated from employment with the subject firm on or after May 28, 2000, through January 9, 2004, are eligible to apply for worker adjustment assistance program benefits.

On January 9, 2002, the Department issued a certification of eligibility applicable to all workers at NewBold Corporation, Rocky Mount, Virginia, TA-W-39,448. Workers separated from employment with the subject firm on or after May 28, 2000, through January 9, 2004, are eligible to apply for worker adjustment assistance program benefits.

Based on this new information, the Department is terminating the certification for petition number TA-W-40,850. Further coverage for workers under this certification would serve no purpose, and the certification has been terminated.

Signed at Washington, DC, this 14th day of June, 2002.
Linda G. Poole,
Certifying Officer, Division of Trade Adjustment Assistance.

[FR Doc. 02-18633 Filed 7-23-02; 8:45 am]

BILLING CODE 4510-30-P